DEPARTMENT OF DEFENSE

Department of the Army

32 CFR Part 574

RIN 0702-AA37

United States Soldiers' and Airmen's Home

AGENCY: Department of the Army, DoD.

ACTION: Final rule.

SUMMARY: This action removes obsolete regulations concerning the U.S. Soldiers' and Airmen's Home facility.

EFFECTIVE DATE: May 23, 2003.

ADDRESSES: Headquarters, Army Retirement Services, ATTN: DAPE-RSO, 200 Stovall St. Alexandria, VA 22332-0470

FOR FURTHER INFORMATION CONTACT: Mr. John Radke, (703) 325-9158.

SUPPLEMENTARY INFORMATION: The Headquarters. Army Retirement Services (DAPE-RSO), is the proponent for regulations in 32 CFR part 574 and, acting with the advice of his operations and legal staffs, had concluded these regulations are obsolete. Due to changes in the laws governing oversight of the U.S. Soldiers' and Airmen's Home, there is no longer a necessity for these regulations. After coordination with The Judge Advocate General (ATTN: DAJA-ALG) and the Office of the Deputy Chief of Staff, Air Force (ATTN: AF/DPI), it was rescinded April 1994. In August, DOD has rescinded DOD directive 1338.20, “Armed forces Retirement Home (AFRH). Therefore, it would be helpful in avoiding confusion with the public if 32 CFR, Part 574, is removed.

List of Subjects in 32 CFR Part 574

United States Soldiers' and Airmens Home

PART 574—[REMOVED]

Accordingly, for reasons stated in the preamble, under the authority of the Armed Forces Retirement Home Act of 1991 (Pub. L. 101-510, Title XV, Nov. 5, 1990) and subsequent amendments now codified at Chapter 10 Title 24, U.S. Code (24 U.S.C. 401-433), 32 CFR part 574, United States Soldiers' and Airmen's Home, is removed in its entirety.

Luz D. Ortiz,
Army Federal Register Liaison Officer.

[FR Doc. 03-13009 Filed 5-22-03; 8:45 am]

BILLING CODE 3710-08-M